DEPARTMENT OF COMMERCE

National Oceanic and Atmospheric Administration

RIN 0648-XV050

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of the Southern Resident Killer Whale (SRKW) Workgroup (Workgroup).

DATES: The meeting will be held Tuesday, October 8 through Wednesday, October 9, 2019. The meeting will be held from 10 a.m. to 5 p.m., Pacific Daylight Time (PDT) on October 8. The meeting will continue on October 9 at 9 a.m. (PDT) and will end at 2 p.m. The meeting times are an estimate; the meetings will adjourn when business for the day is complete.

ADDRESSES: The meeting will be held in the Garden Room, Sheraton Portland Airport Hotel, 8235 NE Airport Way, Portland, OR 97220; telephone: (503) 281-2500.

Council address: Pacific Fishery Management Council, 7700 NE Ambassador Place, Suite 101, Portland, OR 97220-1384.

FOR FURTHER INFORMATION CONTACT: Ms. Robin Ehlke, Pacific Council; telephone: (503) 820-2410.

SUPPLEMENTARY INFORMATION: The purpose of the meeting is to discuss data needs, document development, work plans, and progress made on assigned tasks. The Pacific Council's Salmon Advisory Subpanel will be invited to attend in order to provide additional input and comments on the Workgroup's draft Risk Assessment report as needed. The Workgroup may also discuss and prepare for future Workgroup and Pacific Council meetings. This is a public meeting and not a public hearing. Public comments will be taken at the discretion of the Workgroup co-chairs as time allows.

The National Marine Fisheries Service (NMFS) reinitiated Endangered Species Act (ESA) consultation on the effect of Pacific Council-area ocean salmon fisheries on SRKW. The Pacific Council formed the Workgroup to reassess the effects of Pacific Council-area ocean salmon fisheries on the Chinook salmon prey base of SRKW. The Workgroup has held multiple meetings since their inception. Materials presented during past Workgroup meetings may be found on the NMFS West Coast Regional website (https://www.fisheries.noaa.gov/west-coast/southern-resident-killer-whales-and-fisheries-interaction-workgroup). Agendas and meeting notices can be found on the Pacific Council's website at https://www.pcouncil.org.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at kris.kleinschmidt@noaa.gov, at least 10 days prior to the meeting date.

Authority: 16 U.S.C. 1801 et seq.

Dated: September 4, 2019.
Tracey L. Thompson,
Acting Deputy Director, Office of Sustainable Fisheries, National Marine Fisheries Service.

[FR Doc. 2019-19378 Filed 9-6-19; 8:45 am]

BILLING CODE 3510-22-P